DEPARTMENT OF ENERGY

Federal Energy Regulatory Commission

[Docket No. RP02-182-000]

Columbia Gas Transmission Corporation; Notice of Proposed Changes in FERC Gas Tariff

March 7, 2002.

Take notice that on March 1, 2002, Columbia Gas Transmission Corporation (Columbia) tendered for filing as part of its FERC Gas Tariff, Second Revised Volume No. 1, the following revised tariff sheets with a proposed effective date of April 1, 2002:

Fifty-seventh Revised Sheet No. 25

Fifty-seventh Revised Sheet No. 26

Fifty-seventh Revised Sheet No. 27

Fiftieth Revised Sheet No. 28

Seventeenth Revised Sheet No. 31

Columbia states that these revised tariff sheets are filed pursuant to Section 45, “Electric Power Costs Adjustment (EPCA),” of the General Terms and Conditions (GTC) of Columbia's FERC Gas Tariff, Second Revised Volume No. 1. Section 45.1 allows Columbia to recover electric power costs, including carrying charges, incurred for compression of natural gas by means of various Transportation EPCA Rates and an LNG EPCA Rate, each of which shall be comprised of a current EPCA rate and an EPCA surcharge. The Transportation EPCA Rate is applicable to buyers under Columbia's FTS, NTS, SST, GTS, OPT, and ITS rate schedules. The LNG EPCA Rate is applicable to Rate Schedules X-131, X-132, and X-133.

Columbia states that these revised tariff sheets are being filed to reflect adjustments to Columbia's current costs for electric power for the twelve-month period beginning April 1, 2002.

Columbia states that copies of its filing have been mailed to all firm customers, interruptible customers, and affected state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-6000 Filed 3-12-02; 8:45 am]

BILLING CODE 6717-01-P